DEPARTMENT OF COMMERCE

National Oceanic and Atmospheric Administration

Proposed Information Collection; Comment Request; West Coast Swordfish Fishery Survey

AGENCY: National Oceanic and Atmospheric Administration (NOAA), Commerce.

ACTION: Notice.

SUMMARY: The Department of Commerce, as part of its continuing effort to reduce paperwork and respondent burden, offers the general public and other Federal agencies this opportunity to comment on proposed and/or continuing information collections, as required by the Paperwork Reduction Act of 1995.

DATES: Written comments must be submitted on or before 60 days after date of publication of this notice.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Stephen Stohs, (858) 546-7084 or stephen.stohs@noaa.gov.

SUPPLEMENTARY INFORMATION:

I. Abstract

This request is for a new collection of information.

The Southwest Fisheries Science Center (SWFSC) is undertaking an economics data collection effort for the West Coast Swordfish Fishery (WCSF) in order to improve the SWFSC's capability to do the following: (1) Describe and monitor economic performance (e.g., profitability, capacity utilization, efficiency, and productivity) and impacts (e.g., sector, community, or region-specific employment and income); (2) determine the quantity and distribution of net benefits derived from living marine resources; (3) understand and predict the ecological, and behavior of participants in Federally managed commercial fisheries; (4) predict the biological, ecological, and economic impacts of existing management measures and alternative proposed management actions; and (5) in general, more effectively conduct the analyses required under the MSA, the Endangered Species Act (ESA), and the Marine Mammal Protection Act (MMPDA), the National Environmental Policy Act (NEPA), and Regulatory Flexibility Act (RFA), Executive Order 12866, and other applicable law.

II. Method of Collection

WCSF participants will be contacted and screened to participate in the data collection. A cost and earnings survey will be scheduled and administered to eligible respondents as appropriate. Screener, scheduling and survey modes may include in-person, Internet, phone, or mail.

WCSF participants are defined as current or former participants in the United States (U.S.) west-coast swordfish fisheries—drift gillnet, longline, harpoon and experimental deep-set buoy gear—and suppliers of support services to the fishery, such as processors and spotter-plane pilots.

III. Data

OMB Control Number: 0648-xxxx.

Form Number(s): None.

Type of Review: Regular submission (request for a new information collection).

Affected Public: Businesses or other for-profit organizations.

Estimated Number of Respondents: 50.

Estimated Time per Response: 5 minutes for screener; 5 minutes to schedule survey for qualified and interested respondents; 60 minutes for survey.

Estimated Total Annual Burden Hours: 95.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 24, 2016.
Sarah Brabson,
NOAA PRA Clearance Officer.

[FR Doc. 2016-26051 Filed 10-27-16; 8:45 am]

BILLING CODE 3510-22-P